DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed revised information collection. In accordance with the Paperwork Reduction Act of 1995 (44 U.S.C. 3506(c)(2)(A)), this notice seeks comments concerning quarterly reporting to FEMA for the Supplemental Property Acquisition and Elevation Assistance Program.

SUPPLEMENTARY INFORMATION: The Consolidated Appropriations Act (the Act) for FY 2000 (Pub. L. 106-113) authorizes FEMA to provide assistance for acquisition and relocation of properties affected by Hurricane Floyd or surrounding events for hazard mitigation purposes. Pub. L. 106-246 authorizes FEMA to provide assistance for acquisition, relocation or elevation of properties made uninhabitable by floods in areas that were declared major disasters in fiscal years 1999 or 2000. Grantees of Supplemental Property Acquisition and Elevation Assistance Program awards must report quarterly to FEMA on the performance and financial status of grant projects. FEMA uses this information to report quarterly to Congress, as required by the Act. Grantees may use existing Hazard Mitigation recordkeeping systems to meet FEMA's financial reporting requirements and to document program funds that are not used in violation of existing regulations. Subgrantees are responsible for reporting their funds to States that are under the Supplemental Property Acquisition and Elevation Assistance Program. Financial records are maintained to document all project expenditures.

Collection of Information

Title: Supplemental Property Acquisition and Elevation Assistance.

Type of Information Collection: Revision of a currently approved collection.

OMB Number: 1660-0048.

Form Numbers: FEMA Form 20-10, Financial Status Report.

Abstract: FEMA Form 20-10 is used to review States' quarterly reports, ensure that overall programs are progressing on schedule, and projects meet the intent of the Act. States receiving grant awards are responsible for documenting and reporting to FEMA the use of program funds, in accordance with the Act and implementing regulations. Sub-grantees (local governments) are responsible for implementing the scope of work for a grant and reporting quarterly to States, the progress of projects and status of funds received under the grant. The State will review local community reports to ensure grant projects are progressing on schedule and funds are being used appropriately.

Affected Public: State, local or tribal government.

Estimated Total Annual Burden Hours:

Type of collection/forms | Number of respondents | Hours per response | Annual burden hours
FEMA Form 20-10, Financial Status Report 263 × quarterly = 1052 | 1052 | 8 | 8,416
Performance Report 263 × quarterly = 1052 | 1052 | 4.2 | 4,418
Total | 1052 | 12.2 | 12,834

Estimated Cost: The estimated costs associated with this collection for the quarterly reporting process is $308,016. This calculation is based on the respondents' wage rate.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be received on or before June 1, 2004.

ADDRESSES: Interested persons should submit written comments on the proposed information collection to Muriel B. Anderson, Chief, Records Management Branch, FEMA at 500 C Street, SW., Room 316, Washington, DC 20472, facsimile number (202) 646-3347, or e-mail address: FEMA-Information-Collections@dhs.gov.

FOR FURTHER INFORMATION CONTACT: Contact Carrie Herndon, Hazard Mitigation Specialist, Mitigation Directorate, telephone number (202) 646-4330 for additional information. You may contact Ms. Anderson for copies of the proposed information collection (see addressee information above).

Dated: March 22, 2004.
George S. Trotter,
Acting Division Director, Information Resources Management Division, Information Technology Services Directorate.

[FR Doc. 04-7018 Filed 3-29-04; 8:45 am]

BILLING CODE 9110-11-P